DEPARTMENT OF THE INTERIOR

Fish and Wildlife Service

[FWS-R9-EA-2008-N0243; 97000-5612-0000 FY 2008]

Tribal Wildlife Grants; Implementation Guidelines

AGENCY: Fish and Wildlife Service, Interior.

ACTION: Notice to request public comments on the current implementation of Tribal Wildlife Grants Program and proposed changes to the program.

SUMMARY: We, the Fish and Wildlife Service, propose to change our implementation guidelines for the Tribal Wildlife Grants (TWG) program. The program helps tribal agencies maintain and enhance sustainable, healthy populations of fish and wildlife, as well as the habitats that support them. The TWG program also supports the rich Native American cultural and spiritual heritage associated with fish and wildlife, as well as hunting, fishing, trapping, wildlife observation, conservation, and conservation education. If finalized, these proposed changes would help the TWG program support tribal agencies address new challenges such as global climate change, urban sprawl, implementing landscape-level conservation planning, and a society that is increasingly disconnected from the natural environment, while ensuring sound administration and oversight of TWG funds and activities in accordance with core values and applicable laws, policies, and regulations. We seek public comment on our proposed changes. Current information about the TWG program is located at http://www.fws.gov/nativeamerican/grants.html.

DATES: To ensure consideration, we must receive your written comments by March 2, 2009 at the U.S. mail or e-mail address under ADDRESSES.

ADDRESSES: Native American Liaison, U.S. Fish and Wildlife Service, 4401 N. Fairfax Drive, MS 330, Arlington, VA 22203; TWG_COMMENT@FWS.gov (e-mail).

FOR FURTHER INFORMATION CONTACT: Pat Durham, (703) 358-1728.

SUPPLEMENTARY INFORMATION:

I. Background

In 2003, we launched two competitive grant programs for federally recognized Indian Tribes: the Tribal Wildlife Grants (TWG) program and the Tribal Landowner Incentive Program (TLIP). To date, we have provided more than $51 million to 167 Indian Tribes for 288 projects through TWG. Although TLIP has not been funded in the most recent fiscal years, TWG has become an important and highly successful component of our continually expanding effort to partner with tribal governments.

II. Implementation Guidelines: Current Administrative Guidelines and Proposed Changes

As the administrator of the TWG program, the Service's Office of the Native American Liaison (NAL) is seeking comments from the public on the current implementation of the TWG program and proposed changes to the program. The goals of this public dialogue are to continue to improve the program's effectiveness and efficiency in the following general areas:

• Efficient and consistent administration. We will ensure sound administration and oversight of TWG funds and activities in accordance with core values and applicable laws, policies, and regulations.

• Management of fish, wildlife, and their habitats. The TWG program helps tribal agencies to maintain and enhance sustainable, healthy populations of fish and wildlife, as well as the habitats that support them.

• Utilization of fish, wildlife, and their habitats. The TWG program helps tribal agencies to support the rich Native American cultural and spiritual heritage associated with fish and wildlife, as well as hunting, fishing, trapping, wildlife observation, conservation, and conservation education.

• New challenges and opportunities. To address global climate change, urban sprawl and a society that is increasingly disconnected from the natural environment, and to implement landscape-level conservation planning, the TWG program will support tribal agencies in efforts to connect people with nature, address the impacts of climate change, and strengthen and expand partnerships.

We are seeking comments and input on the following five sections:

1. Current administrative guidance.

2. Proposed changes to current administrative guidance.

3. New challenges and opportunities.

4. Proposed performance measures.

5. Additional comments.

At the beginning of each comment you submit, please tell us the section/subsection number(s) to which your comment pertains.

Section 1. Current Administrative Guidance

1.1. Who Can Apply for TWG Funding?

Federally recognized tribal governments listed in “Indian Entities Recognized and Eligible To Receive Services From the United States Bureau of Indian Affairs,” which the Bureau of Indian Affairs published in the Federal Register on April 4, 2008 (73 FR 18553), are eligible to apply for TWG funding. Tribal organizations and other entities may participate as sub-grantees or contractors to federally recognized Tribes.

1.2. What Types of Projects May Receive Funding?

1.2.1. Eligible projects include those to develop and implement programs for the benefit of tribal wildlife and their habitat, including species of Native American cultural or traditional importance and species that are not hunted or fished. Activities may include, but are not limited to, planning for wildlife and habitat conservation, fish and wildlife conservation and management actions, fish and wildlife-related laboratory and field research, natural history studies, habitat mapping, field surveys and population monitoring, habitat preservation, conservation easements, and public education that is relevant to the project.

1.2.2. We are interested in tribal priorities, concerns, and approaches to the emerging science and potential impacts of climate change and implementing landscape-level conservation planning. Should climate change impacts be considered in the ranking criteria for proposals? If so, we welcome suggestions on how to consider climate change in the context of tribal priorities.

1.2.3. TWG funds can be used for environmental review, habitat evaluation, permit review (e.g., Section 404 under the Clean Water Act), and other environmental compliance activities, provided they are directly related to the TWG project and are discussed in the budget narrative/table. Although TWG funds cannot be used to conduct activities to comply with a federal Biological Opinion or with a permit (e.g., mitigation responsibilities) for another program or project, they can be used to implement conservation recommendations.

1.2.4. Projects may be proposed on lands other than those lands that are held in tribal trust status only if an enforceable contract with the landowner is submitted with the proposal. The contract must authorize permission to the grantee to conduct the proposed activities.

1.3. When Are Proposals Due?

Generally, the request-for-proposals period will open the first business day in May and close on the first business day in September of each year. Proposals must be received by the appropriate Regional Office with a postmark no later than the first business day in September. Addresses for your submissions are provided in Section III (List of Native American Liaisons) of this notice.

1.4. How Can the Fish and Wildlife Service Help Tribes Plan and Implement a Project?

The Service may assist Tribes in planning or implementing projects. Through a number of Service programs, we offer expertise to assist Tribes in planning and implementing projects. For information on how the Service may be able to assist, contact the Native American Liaison (NAL) in the appropriate Regional Office. Information is also available from the Service's Internet site at http://www.fws.gov/nativeamerican/. In addition, many other Federal, State, or tribal agencies, as well as conservation organizations, work closely with Tribes and may be able to assist with planning and implementing a project.

1.5. How Will Proposals Be Selected?

The Regional NAL will screen proposals for eligibility and will coordinate the regional ranking process according to nationally uniform ranking criteria. Top regionally ranked proposals will be recommended to the Service Director for funding. A national panel will review and rank remaining proposals and provide its recommendations to the Service Director. The Director will make the final determination for grant approval.

1.6. When Do Grantees Address Federal Environmental Compliance Issues?

Addressing the requirements of the National Environmental Policy Act, the National Historic Preservation Act, Clean Water Act, the Endangered Species Act, and other applicable authorities can be quite involved, and is therefore not part of the TWG application. The Regional NAL will coordinate the applicable process after proposals have been selected. Although these compliance requirements may delay the availability of funds to awardees, proposals that are not selected are not subjected to such additional administrative processes.

Section 2. Proposed Changes to Current Administrative Guidance

Section 2 proposes several changes to the current TWG program administrative guidance.

2.1. Limitations on Project Proposals.

Projects funded under TWG have historically not been held to a specific operational time period. The practice of allowing unrestricted carryover is helpful to some of our partner Tribes in completing multi-year projects, because, once projects have been selected; they are not subject to competing for funds after the initial year of that project for its agreed-upon duration.

An unintended result of this practice is that TWG funds may remain unused for several years. Also, there is currently no restriction on how many open grants a partner Tribe may have. Some partner Tribes have continued to submit new proposals even though these Tribes already have TWG project(s) that have been selected for funding but not yet initiated. In the interest of fiscal accountability and efficient use of federally appropriated funds, we are proposing the following changes:

2.1.1. Limit the Number of Concurrently Open Grants.

Restrict proposal applications in any given grant cycle to Tribes that have no more than one open TWG. If a Tribe has more than one open TWG during the request for proposals for a given fiscal year, that tribe would be ineligible to submit a new proposal for that same grant cycle. This change would prevent the practice of holding project funds for future use while continuing to apply for additional funds.

2.1.2. Limit the Duration of Grant Projects.

Institute a 1-year restriction on all grant projects from the date that all Federal compliance measures have been satisfied and the formal letter of agreement has been signed for each grant. Extensions may be granted by the Service when necessary to accommodate unforeseen or unaccounted for delays in the execution of a grant. This change would help to focus projects on specific accomplishments and establish a pattern that more closely coincides with the Federal appropriations process.

2.1.3. Lower the Funding Cap.

Reduce the current $200,000 maximum allowable proposal request. Currently, we receive about 120 proposals each TWG cycle, of which we are able to select between 30 and 35 percent for funding at current appropriation levels. A lower maximum grant proposal of $150,000 would increase both the number of selected proposals and the number of Tribes receiving TWG, and would discourage less-efficient multi-year proposals.

2.2. Small Grants.

The Service may institute a Small Grants segment of TWG.

2.2.1. Small Grants.

Grant proposals for less than $25,000 could be limited to projects that require little pre-agreement work, minimize application requirements, and address a set of targeted activities. We are seeking comment on the pros and cons of utilizing a portion of TWG funds as a small grant program.

2.2.2. Matching Requirements for Small Grants.

When grant applicants contribute their resources to a project, commitment to that project is demonstrated and its cost/benefit ratio is enhanced. If a small grants component of TWG were instituted, should a non-Federal cost-share commitment be a required part of the application? If so, what minimum percentage of the total requested federal funds through TWG is appropriate: 25 percent; 50 percent; 100 percent; or other?

2.3 TWG Proposals

2.3.1. Matching Requirements for TWG.

Matching (in-kind) funds are currently not required in a TWG proposal, although projects that choose to include them may score higher in the ranking process. When grant applicants contribute their resources to a project, commitment to that project is demonstrated and its cost/benefit ratio is enhanced. Should a non-Federal cost-share commitment be a required part of the TWG application? If so, what minimum percentage of the total requested federal funds through TWG is appropriate: 25 percent; 50 percent; 100 percent; or other?

2.3.2. Capacity Building.

TWG defines Capacity Building as those activities and actions that support the long-term ability of tribal agencies to manage fish and wildlife resources and their habitats, including but not limited to the enhancement of in-house expertise; development of baseline information such as species lists, population dynamics, habitat mapping, etc.; development of long-term partnerships; development and implementation of conservation and restoration management plans; establishment of permanent facilities for fish and wildlife such as hatcheries, laboratories, enclosures, etc.; acquisition of necessary equipment; enhancement of regulatory authority; and gaining recognition as a participant in local, regional, or national natural resources management and conservation issues.

Designed to encourage and support the development of new tribal fish and wildlife management initiatives and partnerships, capacity building is a significant component of the TWG proposal scoring criteria. From a national perspective, capacity building has been successful, but we want to gain the insights of individual Tribes regarding the importance of capacity building in the proposal scoring criteria.

Section 3. New Challenges and Opportunities.

Despite the success of TWG, tribal wildlife resources will continue to confront new challenges. Tribal agencies must address issues such as limited financial resources, global climate change, implementing landscape-level conservation planning, urban sprawl and encroachment, and a society that is increasingly disconnected from the natural environment.

The processes and partnerships that have been established through the successful implementation of TWG provide the Service and our tribal partners an effective mechanism for helping to address these challenges. We are seeking innovative ways to use TWG to address these important issues in Indian Country. Below is a list of FWS challenges and opportunities. Please comment on these challenges and opportunities or provide alternative ones.

3.1. Connecting People with Nature.

The TWG Program should take positive steps to encourage and nurture interest in the natural world. Reconnecting people with nature through hunting and fishing activities and educational opportunities is gaining in importance, considering the downward trends of participation in hunting, fishing, and boating, and the fact that those persons who participate in these activities are the primary financial contributors to wildlife and habitat conservation in the United States.

3.2. Address Climate Change.

Climate change has the potential to alter native and managed habitats significantly, to increase the likelihood of species extinctions, to stress native and non-native wildlife populations, and to affect how people are able to use fish and wildlife resources. Anticipating and responding to the limitations and opportunities resulting from projected climate change in particular areas will be a unique challenge for all fish and wildlife agencies.

3.3. Strengthening and Expanding Partnerships.

The success of the TWG Program has been due in large part to the effective partnerships between tribal agencies and the Service. Continuing this success and achieving the intended outcomes will require that these partnerships are maintained and strengthened. In addition, trends in climate change and the public's connection to nature pose challenges, but they also present opportunities to build more and better support for conservation through existing and new partners.

Section 4. Proposed Performance Measures.

We have a responsibility to the American public and congress to be accountable for the program's activities and actions, including our expenditure of public funds through TWG. In order to report TWG accomplishments in a meaningful way, we must identify what goals are intended (see 4.1, TWG goals) and what measures contribute to those goals (see 4.2, Proposed Measures). Reporting is a critical component in maintaining and strengthening the established partnerships between the Tribes and the Service. Section 4.2 contains a comprehensive list of possible measures: We would like to identify four or five of these measures to use to begin quantifying the benefits of TWG. Please let us know which measures you think are most important and would be most effective and efficient for tribal governments and the Service to use to determine the program's success.

4.1. TWG Goals

4.1.1. Efficient and Consistent Administration.

This goal supports the Service's priority to maintain fiscal and administrative integrity and accountability to the public, and as required by law, OMB circular A-87 and the President's Management Agenda.

The TWG program will ensure sound administration and oversight of program funds and activities in accordance with core values and applicable laws, regulations, and policies.

4.1.2. Acknowledge the Special Political Status of Indian Tribes.

This goal supports the Service's priority of working with others towards conservation at the landscape level.

The Service will ensure that Service employees recognize and understand the government-to-government relationship due federally recognized Indian tribal governments and will implement TWG accordingly.

4.1.3. Management of Fish, Wildlife, and their Habitats.

This goal supports migratory bird conservation and management, achieving recovery and preventing extinction of threatened and endangered species, and management of aquatic species identified in the National Fish Habitat Action Plan and other trust species.

The TWG program will help tribal agencies to maintain and enhance sustainable, healthy populations of fish, wildlife, and the habitats to support them with a special emphasis on the priorities that our tribal partners share with the Service.

4.1.4. Utilization of Fish, Wildlife, and their Habitats.

This goal supports the Service's priority of working with others towards conservation at the landscape level, conservation and management of migratory birds, management of aquatic species identified in the National Fish Habitat Action Plan and other trust species, and ensuring the future of conservation by connecting people with nature.

The TWG program will help tribal agencies to support the rich cultural and spiritual heritage of Native Americans associated with fish and wildlife, as well as traditional uses of fish and wildlife and their habitats such as hunting, fishing, trapping, wildlife observation, conservation, and conservation education.

4.1.5. Address the Future Conservation Challenges of Indian Tribes.

This goal supports the Service's priority of working with Indian tribal governments.

The TWG program will support the efforts of tribal governments to address the challenges of limited financial resources, global climate change, urban sprawl and encroachment, and a society that is increasingly disconnected from the natural environment.

4.2. Proposed Measures

In establishing measures to report the effectiveness of TWG, it is important to consider the ease by which the information is, and can be gathered and compiled for reporting purposes. A best-case scenario will enable the Service to capture data that are generated automatically in the established activities and actions inherent to the administration and implementation of TWG projects.

4.2.1. Efficient and Consistent Administration.

Annually report the percentage of open grants in which all fiscal reporting documents are submitted by required due dates.

4.2.2. Acknowledge the Special Status of Indian Tribes.

Annually report the number of Service employees who have received training on the special status of federally recognized Indian tribal governments.

4.2.3. Management of Fish, Wildlife, and their Habitats.

A. Annually report the number of riparian (stream/shoreline) miles managed or protected to maintain desired conditions, including miles managed or protected through partnerships, as specified in management plans or agreements through the TWG.

B. Annually report the number of wetland, upland, and marine and coastal acres restored, including acres restored through partnerships, as specified in management plans or agreements through the TWG.

C. Annually report the number of upland acres restored, including acres restored through partnerships, as specified in management plans or agreements through the TWG.

D. Annually report the number of upland acres enhanced/restored through the TWG.

E. Annually report the number of coastal and marine acres restored, including acres restored through partnerships, as specified in management plans or agreements through the TWG.

F. Annually report the number of upland acres managed or protected to maintain desired condition, including acres managed or protected through partnerships, as specified in management plans or agreements through the TWG.

G. Report an annual list of threatened or endangered species stabilized or improved through the TWG.

H. Annually report the number of acres contaminated with invasive plant species that are managed through the TWG.

I. Report an annual list of invasive animal species that are managed through the TWG.

J. Annually report the percent of planned tasks implemented for tribal fish and wildlife conservation as prescribed by management plans or agreements through the TWG.

4.2.4. Utilization of Fish, Wildlife, and their Habitats.

To measure how the TWG program helps tribal agencies support the rich cultural and spiritual heritage of Native Americans associated with fish and wildlife, as well as traditional uses of fish and wildlife and their habitats, such as hunting, fishing, trapping, wildlife observation, conservation, and conservation education.

A. Report an annual list of fish and wildlife species and their habitats that are protected under new tribal ordinance or management plans as a result of TWG projects and are of special Native American cultural or religious concern.

B. Report an annual list of fish and wildlife species populations that are enhanced or stabilized as a result of TWG projects and are of special Native American cultural or religious concern.

4.2.5. Address the Future Conservation Challenges of Indian Tribes.

A. Annually report the number of TWG project activities or products implemented to address the long-term effects of global climate change affecting Indian Tribes.

B. Annually report personnel development, partnerships, and institutional consistency.

C. Annually report the number of individuals participating in TWG project activities that engage them in outdoor education and related activities.

Section 5. Additional Comments.

In addition to the specific items above, the Service encourages any additional comments, criticisms, and recommendations regarding TWG that will improve its effectiveness and efficiency.

III. List of Native American Liaisons

Service Region | States where the project will occur | Regional Native American Liaison & phone number | Where to send your project proposal
Region 1 | Hawaii, Idaho, Oregon, and Washington | Pat Gonzales-Rogers (503) 231-6123 | U.S. Fish and Wildlife Service Native American Liaison Eastside Federal Complex 911 N.E. 11th Avenue Portland, OR 97232-4181
Region 2 | Arizona, New Mexico, Oklahoma, and Texas | Joe Early (505) 248-6602 | U.S. Fish and Wildlife Service Native American Liaison 500 Gold Avenue, SW P.O. Box 1306 Albuquerque, NM 87103-1306
Region 3 | Illinois, Indiana, Iowa, Michigan, Minnesota, Missouri, Ohio, and Wisconsin | John Leonard (612) 713-5108 | U.S. Fish and Wildlife Service Native American Liaison 1 Federal Drive Fort Snelling, MN 55111-4080
Region 4 | Alabama, Arkansas, Florida, Georgia, Kentucky, Louisiana, Mississippi, North Carolina, South Carolina, and Tennessee | Jeffrey Fleming (404) 679-7287 | U.S. Fish and Wildlife Service ARD External Affairs 1875 Century Blvd. Atlanta, GA 30345
Region 5 | Connecticut, Delaware, Maine, Maryland, Massachusetts, New Hampshire, New Jersey, New York, Pennsylvania, Rhode Island, Vermont, Virginia, Washington D.C., and West Virginia | DJ Monette (413) 253-8662 | U.S. Fish and Wildlife Service Native American Liaison 300 Westgate Center Drive Hadley, MA 01035-9589
Region 6 | Colorado, Kansas, Montana, Nebraska, North Dakota, South Dakota, Utah, and Wyoming | Kim Greenwood (303) 236-4575 | U.S. Fish and Wildlife Service Tribal Liaison P.O. Box 25486 Denver CO 80225
Region 7 | Alaska | Sue Detwiler (907) 786-3868 | U.S. Fish and Wildlife Service Native American Liaison 1011 East Tudor Road Anchorage, AK 99503-6199
Region 8 | California, Nevada and the Klamath Basin | David Wooten (916) 414-6576 | Tribal Partnerships Specialist Habitat Restoration Division 2800 Cottage Way, Rm W-2606 Sacramento, CA 95825

Dated: November 14, 2008
Lyle Laverty
Assistant Secretary for Fish and Wildlife and Parks

[FR Doc. E8-28341 Filed 11-28-08; 8:45 am]

BILLING CODE 4310-55-S